ENVIRONMENTAL PROTECTION AGENCY

40 CFR Part 63

[EPA-HQ-OAR-2014-0830; FRL-9950-11-OAR]

RIN 2060-AS99

National Emission Standards for Aerospace Manufacturing and Rework Facilities Risk and Technology Review; Clarification

AGENCY: Environmental Protection Agency (EPA).

ACTION: Proposed rule.

SUMMARY: The Environmental Protection Agency (EPA) is proposing to amend the National Emissions Standards for Hazardous Air Pollutants (NESHAP) for Aerospace Manufacturing and Rework Facilities. In the “Rules and Regulations” section of this Federal Register, we are clarifying the compliance date for the handling and storage of waste as a direct final rule without a prior proposed rule. If we receive no significant and relevant adverse comment, we will not take further action on this proposed rule.

DATES: Written comments must be received by September 2, 2016.

ADDRESSES: Submit your comments, identified by Docket ID No. EPA-HQ-OAR-2014-0830, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

Docket. The EPA has established a docket for this rulemaking under Docket ID No. EPA-HQ-OAR-2014-0830. All documents in the docket are listed on the http://www.regulations.gov Web site. Although listed in the index, some information is not publicly available, e.g., CBI or other information whose disclosure is restricted by statute. Certain other material, such as copyrighted material, is not placed on the Internet and will be publicly available only in hard copy. Publicly available docket materials are available either electronically through http://www.regulations.gov or in hard copy at the EPA Docket Center, EPA WJC West Building, Room 3334, 1301 Constitution Avenue NW., Washington, DC. The Public Reading Room is open from 8:30 a.m. to 4:30 p.m., Monday through Friday, excluding legal holidays. The telephone number for the Public Reading Room is (202) 566-1744, and the telephone number for the EPA Docket Center is (202) 566-1742.

FOR FURTHER INFORMATION CONTACT: For questions about this proposed action, contact Ms. Kim Teal, Sector Policies and Programs Division (D243-04), Office of Air Quality Planning and Standards, U.S. Environmental Protection Agency, Research Triangle Park, North Carolina 27711; telephone number: (919) 541-5580; fax number: (919) 541-5450; and email address: teal.kim@epa.gov. For information about the applicability of the NESHAP to a particular entity, contact Mr. John Cox, Office of Enforcement and Compliance Assurance, (202) 564-1395, cox.john@epa.gov.

SUPPLEMENTARY INFORMATION:

Organization of this document. The information in this preamble is organized as follows:

I. General Information

A. Why is the EPA issuing this proposed rule?

B. Does this action apply to me?

C. What are the amendments in this proposed rule?

II. Statutory and Executive Order Reviews

I. General Information

A. Why is the EPA issuing this proposed rule?

This document proposes to take action on the NESHAP for Aerospace Manufacturing and Rework Facilities. We have published a direct final rule to clarify the compliance date for the handling and storage of waste in the “Rules and Regulations” section of this Federal Register because we view this as a noncontroversial action and anticipate no significant and relevant adverse comment. We have explained our reasons for this action in the preamble to the direct final rule.

If we receive no significant and relevant adverse comment, we will not take further action on this proposed rule. If we receive significant and relevant adverse comment, we will withdraw the direct final rule and it will not take effect. We would address all public comments in any subsequent final rule based on this proposed rule.

We do not intend to institute a second comment period on this action. Any parties interested in commenting must do so at this time. For further information, please see the information provided in the ADDRESSES section of this document.

B. Does this action apply to me?

Regulated entities. Categories and entities potentially regulated by this action are shown in Table 1 of this preamble.

Table 1—Industrial Source Categories Affected by This Action
Source category | NESHAP | NAICS ¹ Code
Aerospace | Aerospace | 336411
Manufacturing and Rework Facilities | Manufacturing and Rework Facilities | 336412
|  | 336413
|  | 336414
|  | 336415
|  | 336419
|  | 481111
|  | 481112
|  | 481211
|  | 481212
|  | 481219
¹ North American Industry Classification System.

Table 1 of this preamble is not intended to be exhaustive, but rather to provide a guide for readers regarding entities likely to be affected by the final action for the source categories listed. To determine whether your facility is affected, you should examine the applicability criteria in the appropriate NESHAP. If you have any questions regarding the applicability of any aspect of this NESHAP, please contact the appropriate person listed in the preceding FOR FURTHER INFORMATION CONTACT section of this preamble.

C. What are the amendments in this proposed rule?

This proposed rule provides a compliance date of December 7, 2018, for sources subject to the requirements for handling and storage of waste in 40 CFR part 63, subpart GG.

The EPA is accepting comments only on the specific issue raised in this proposed action and the accompanying direct final rule, the compliance date for handling and storage of waste. The EPA is not reopening or accepting comment on any other aspect of the NESHAP for Aerospace Manufacturing and Rework Facilities.

II. Statutory and Executive Order Reviews

For a complete discussion of the rationale, regulatory text, and all of the administrative requirements applicable to this action, see the direct final rule in the “Rules and Regulations” section of this Federal Register.

Dated: July 26, 2016.
Gina McCarthy,
Administrator.

[FR Doc. 2016-18396 Filed 8-2-16; 8:45 am]

BILLING CODE 6560-50-P